DEPARTMENT OF TRANSPORTATION

Federal Railroad Administration

49 CFR Part 218

[Docket No. FRA-2021-0032, Notice No. 3]

RIN 2130-AC88

Train Crew Size Safety Requirements

AGENCY: Federal Railroad Administration (FRA), Department of Transportation (DOT).

ACTION: Proposed rulemaking; announcement of public hearing and extension of comment period.

SUMMARY: On July 28, 2022, FRA published a notice of proposed rulemaking (NPRM) that would establish minimum safety requirements for the size of train crews, depending on the type of operation. FRA is announcing a public hearing to allow interested persons the opportunity to provide comments on the proposal. FRA is also announcing a second extension of the comment period, providing an 86-day extension to the original comment period, to allow time for interested parties to submit comments on the proposal or in response to views or information provided at the public hearing.

DATES:

(1) A public hearing will be held on December 14, 2022, from 9:30 a.m. (ET) to 4 p.m. (ET) in Washington, DC and through one or more internet links.

(2) Comments: The comment period for the proposed rule published Jul. 28, 2022, at 87 FR 45564, is extended. Comments on the proposed rule or in response to views or information provided at the public hearing should be received on or before December 21, 2022. FRA will consider comments received after that date to the extent practicable.

ADDRESSES:

Public Hearing: The public hearing will allow for participation in-person or virtually. For those participants that prefer to appear in person, the public hearing will be held at the National Association of Home Builders, located at 1201 15th Street NW, Washington, DC 20005. For those participants wishing to make a statement at the public hearing, either in-person or virtually, please contact FRA as described under the Public Participation Procedures heading in the SUPPLEMENTARY INFORMATION section of this document. Any person who wants to participate or observe the public hearing virtually can visit www.railroads.dot.gov/train-crew-staffing-nprm for the web address and hyperlink.

Comments: Comments related to Docket No. FRA-2021-0032 may be submitted by going to https://www.regulations.gov and following the online instructions for submitting comments.

Instructions: All submissions must include the agency name, docket number (FRA-2021-0032), and Regulatory Identification Number (RIN) for this rulemaking (2130-AC88). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Kevin Lewis, Operating Crew Certification Specialist, Federal Railroad Administration, telephone: 918-557-0651, email: kevin.lewis@dot.gov; or Alan Nagler, Senior Attorney, Federal Railroad Administration, telephone: 202-493-6038, email: alan.nagler@dot.gov.

SUPPLEMENTARY INFORMATION: Interested parties are invited to present statements and to offer information and views at the hearing. The hearing will be informal and will be conducted by a representative FRA designates under FRA's Rules of Practice (49 CFR 211.25). The hearing will be a non-adversarial proceeding. Therefore, there will be no cross-examination of persons presenting statements or offering information. An FRA representative will make an opening statement outlining the scope of the hearing. After all initial statements are completed, those persons wishing to make a brief rebuttal will be given the opportunity to do so, in the same order in which the initial statements were made. FRA will announce any additional procedures necessary at the hearing. The purpose of this hearing is to receive comments in response to an NPRM that requested public comment on a potential train crew size safety requirements rulemaking. 87 FR 45564 (Jul. 28, 2022). There will be a court reporter to record and transcribe comments presented verbatim at the hearing. FRA will add the verbatim transcript of the discussions to the public docket in this proceeding.

Public Participation Procedures

Any person: (1) wishing to attend the hearing in person, (2) make a statement at the hearing either in-person or virtually, or (3) both, should notify FRA by contacting Mr. Patrick Hogan, Transportation Analyst, by email at Patrick.Hogan@dot.gov, no later than December 9, 2022, providing the following information, as applicable:

(a) The name, affiliation or party represented, email address, and phone number of the participant.

(b) Whether the participant is attending in person or virtually.

(c) The subject(s) of the statement and/or presentation wishes to make, and the amount of time requested.

(d) A copy of the oral statement and/or presentation.

FRA reserves the right to limit participation in the hearing of persons who fail to follow the public participation procedures as outlined above. FRA also reserves the right to limit the duration of presentations, as necessary, to afford all persons the opportunity to speak or to limit participation in the hearing of persons who exceed their allotted time or who discuss topics or issues outside the scope of the proposed rulemaking. Further, FRA reserves the right to limit in-person attendance at the hearing, as space is limited; preference in attendance will be provided to persons requesting to present statements in person.

FRA is committed to providing equal access to this meeting for all participants. If you need alternative formats or other reasonable accommodations to participate in this meeting, either in-person or virtually, please contact FRA Program Analyst Mr. Kenton Kilgore via email at kenton.kilgore@dot.gov no later than December 5, 2022.

Extension of Comment Period

FRA previously extended the original comment period for the proposed rule by 67 days to December 2, 2022. 87 FR 57863 (Sep. 22, 2022). FRA is further extending the comment period an additional 19 days to December 21, 2022, to allow time for interested parties to submit written comments on the proposal or in response to views or information provided at the public hearing.

Privacy Act

In accordance with 5 U.S.C. 553(c), DOT solicits comments from the public to better inform its rulemaking process. DOT posts these comments, without edit, to www.regulations.gov, under docket number FRA-2021-0032, as described in the system of records notice, DOT/ALL-14 FDMS, accessible through https://www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

Issued in Washington, DC.
Amitabha Bose,
Administrator.

[FR Doc. 2022-23418 Filed 10-26-22; 8:45 am]

BILLING CODE 4910-06-P